POSTAL SERVICE

Board of Governors; Sunshine Act Meeting

TIME AND DATE: Wednesday, April 1, 2020, at 9:00 a.m.; Wednesday, April 1, 2020, at 12:00 p.m.

PLACE: Washington, DC, at U.S. Postal Service Headquarters, 475 L'Enfant Plaza SW, in the Benjamin Franklin Room.

STATUS: Wednesday, April 1, 2020, at 9:00 a.m.—Closed. Wednesday, April 1, 2020, at 12:00 p.m.—Open.

MATTERS TO BE CONSIDERED:

Wednesday, April 1, 2020, at 9:00 a.m. (Closed)

1. Strategic Issues.

2. Financial and Operational Matters.

3. Administrative Issues.

Wednesday, April 1, 2020, at 12:00 p.m. (Open)

1. Remarks of the Chairman of the Board of Governors.

2. Remarks of the Postmaster General and CEO.

3. Borrowing Resolution.

CONTACT PERSON FOR MORE INFORMATION: Michael J. Elston, Secretary of the Board of Governors, U.S. Postal Service, 475 L'Enfant Plaza SW, Washington, DC 20260-1000. Telephone: (202) 268-4800.

Michael J. Elston,
Secretary.

[FR Doc. 2020-06533 Filed 3-25-20; 11:15 am]

BILLING CODE 7710-12-P